DEPARTMENT OF JUSTICE

Antitrust Division

Notice Pursuant to the National Cooperative Research and Production Act of 1993—“Fuel/Water Separation Characteristics Program”

Notice is hereby given that, on March, 10, 2000, pursuant to Section 6(a) of the National Cooperative Research Production Act of 1993, 15 U.S.C. 4301 et seq. (“the Act”), Southwest Research Institute (“SwRI”) filed written notifications simultaneously with the Attorney General and the Federal Trade Commission disclosing (1) the identities of the parties and (2) the nature and objective of the venture. The notifications were filed for the purpose of invoking the Act's provisions limiting the recovery of antitrust plaintiffs to actual damages under specified circumstances. Pursuant to Section 6(b) of the Act, the identities of the current participants in the Fuel/Water Separation Characteristics Program are: Baldwin Filters, Kearney, NE; Caterpillar, Inc., Mossville, IL; Champion Laboratories, Inc., West Salem, IL; Davco Manufacturing , LLC, Saline, MI; and Donaldson Company, Inc., Minneapolis, MN.

The general area of planned activity of the Fuel/Water Separation Characteristics Program is to study the effects of fuel additives at varying concentrations on diesel fuel's physical properties. This research project may include the study of surface tension, interfacial tension, pH, density, viscosity, conductivity and chemical composition of water separated from the fuel. In addition, the planning activity may include the evaluation of fuel/water separation using standardized SAE test methods and the testing of various types of filter media, including paper and synthetic fibers media, with different coatings, resins and other related material.

Membership in this research group remains open, and the participants intend to file additional written notifications disclosing all changes in membership or planned activities.

Constance K. Robinson,
Director of Operations, Antitrust Division.

[FR Doc. 00-28176 Filed 11-1-00; 8:45 am]

BILLING CODE 4410-11-M